DEPARTMENT OF DEFENSE

Department of the Army; Corps of Engineers

Coastal Engineering Research Board (CERB)

AGENCY: Department of the Army, DoD.

ACTION: Notice of meeting.

SUMMARY: In accordance with section 10(a)(2) of the Federal Advisory Committee Act (Pub. L. 92-463), announcement is made of the following committee meeting:

Name of Committee: Coastal Engineering Research Board (CERB).

Date of Meeting: June 7-9, 2004.

Place: The Traverse City Resort and Spa, 100 Grand Traverse Village Boulevard, Acme, MI 49610-0404.

Time: 6:30 p.m. to 8:30 p.m. (June 7, 2004); 8 a.m. to 5 p.m. (June 8, 2004); 8 a.m. to 5:30 p.m. (June 9, 2004).

FOR FURTHER INFORMATION CONTACT: Inquiries and notice of intent to attend the meeting may be addressed to Colonel James R. Rowan, Executive Secretary, Commander, U.S. Army Engineer Research and Development Center, Waterways Experiment Station, 3909 Halls Ferry Road, Vicksburg, MS 39180-6199.

SUPPLEMENTARY INFORMATION: Proposed Agenda: The theme of the meeting is “Great Lakes System Management.” On Monday evening, June 7, there will be an icebreaker. The morning presentations on Tuesday, June 8, during the panel “Great Lakes (GL) System Management,” will include: “GL Coastal Setting and Processes,” “Managing the GL System (International Joint Commission Initiatives and Research Needs),” “Integrated Ocean Observing System,” “Hydrodynamic Modeling Needs (WIS, Nearshore Circulation),” “GL Tributary Modeling Program,” “Innovations in Erosion Control (Section 227 at Allegan and Sheldon),” and “States Perspective Coastal Zone Management in the Great Lakes.” The afternoon presentations during the panel entitled “Regional Sediment Management (RSM) in the Great Lakes,” will include “Litigation Aspects of RSM,” “Lake Michigan Regional Sediment Management Demo (Michigan City to Indiana Dunes),” “Lake Ontario and St. Lawrence Seaway Coastal Processes,” and “GL Erosion Process Modeling and Damage Potential Analysis.” On Wednesday, June 9, presentations during the panel entitled, “Sustaining Coastal Infrastructure,” will include “Business Drivers—Maintaining the GL Navigation System,” Bacterial Contamination of Beach Sands,” and Clean Beaches Council and Sustainable Beaches Summit.'' During the afternoon, the members of the Board will tour the area via helicopter and will meet in an Executive Session. The attendees will take a bus tour.

These meetings are open to the public; participation by the public is scheduled for 4:15 p.m. on June 8.

The entire meeting is open to the public, but since seating capacity of the meeting room is limited, advance of notice of intent to attend, although not required, is requested in order to assure adequate arrangements. Oral participation by public attendees is encouraged during the time scheduled on the agenda; written statements may be submitted prior to the meeting or up to 30 days after the meeting.

James R. Rowan,
Colonel, Corps of Engineers, Executive Secretary.

[FR Doc. 04-10942 Filed 5-13-04; 8:45 am]

BILLING CODE 3710-61-M